DEPARTMENT OF THE INTERIOR

National Park Service

[NPS-WASO-NRNHL-DTS#-34750; PPWOCRADI0, PCU00RP14.R50000]

National Register of Historic Places; Notification of Pending Nominations and Related Actions

AGENCY: National Park Service, Interior.

ACTION: Notice.

SUMMARY: The National Park Service is soliciting electronic comments on the significance of properties nominated before October 15, 2022, for listing or related actions in the National Register of Historic Places.

DATES: Comments should be submitted electronically by November 14, 2022.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 15, 2022. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ALABAMA

Jefferson County

Mountain Brook Office Park Historic District, 2900 Cahaba Rd., 1-17 Office Park Cir., 100-510 Office Park Dr., Mountain Brook, SG100008399

COLORADO

Denver County

Emily Griffith Opportunity School, 1250 Welton St., Denver, SG100008396

Mineral County

Zang's Hotel and Annex, 120 North Main St., Creede, SG100008397

INDIANA

Adams County

Decatur Homesteads, Each side of Homestead Dr. and the west side of High St., Decatur, SG100008407

Allen County

Becker House, 425 West Williams St., Fort Wayne, SG100008406

Brown County

Nashville Historic District, Roughly bounded by Old School Way, Johnson, Mound, and Franklin Sts. including blk. south of Franklin St. between Van Buren and Jefferson Sts., Nashville, SG100008408

Cass County

Riverside Historic District, Roughly bounded by Erie Ave., High, and Market Sts., Logansport, SG100008409

Fayette County

Trinity Episcopal Church & Parish House, 518 North Eastern Ave. and 215 East 6th St., Connersville, SG100008410

Gibson County

Patoka Church of God in Christ-Patoka Colored School, 309 South Wood St., Patoka, SG100008411

LaGrange County

Bloomfield Township Graded School (Indiana's Public Common and High Schools MPS), 3020 East US 20, LaGrange vicinity, MP100008412

Wabash County

Josiah White's Manual Labor Institute, Each side of Cty. Rd. 50 East/Bailey Rd. extending south approx. ½ mi. from W 500 S., Wabash vicinity, SG100008413

NEW YORK

Albany County

Turner Farmhouse (Colonie Town MRA), 475 Loudon Rd., Loudonville, MP100008395

Beattie Machine Works, 24 Amity St., Cohoes, SG100008404

Erie County

J.W. Ruger & Deck Bros. Building, 220-222 Chicago St., Buffalo, SG100008402

Brisbane Building, 395 Main St., Buffalo, SG100008403

Aldrich & Ray Manufacturing Company Building, 1491 Niagara St., Buffalo, SG100008405

OHIO

Cuyahoga County

Rauch & Lang Carriage Company Building, 2168 West 25th St., Cleveland, SG100008415

A request for removal has been made for the following resource:

INDIANA

Pulaski County

Monterey Bandstand, Walnut St., Monterey, OT12000339

A documentation has been received for the following resource:

RHODE ISLAND

Newport County

Newport Historic District (Additional Documentation), Bounded roughly by Van Zandt and Bellevue Aves., Broadway, Newport Harbor, Thames, Pope, William, Bull, and Kingston Sts., Newport, AD68000001

Nomination submitted by Federal Preservation Officer:

The State Historic Preservation Officer reviewed the following nomination and responded to the Federal Preservation Officer within 45 days of receipt of the nomination and supports listing the property in the National Register of Historic Places.

PUERTO RICO

Rio Grande Municipality

Jimenez Petroglyph Site (Prehistoric Rock Art of Puerto Rico MPS), Address Restricted, Rio Grande vicinity, MP100008398

Authority: Section 60.13 of 36 CFR part 60.

Dated: October 19, 2022.
Sherry A. Frear,
Chief, National Register of Historic Places/National Historic Landmarks Program.

[FR Doc. 2022-23490 Filed 10-27-22; 8:45 am]

BILLING CODE 4312-52-P